Executive Order 14109 of September 29, 2023

Continuance of Certain Federal Advisory Committees and Amendments to Other Executive Orders

By the authority vested in me as President by the Constitution and the laws of the United States of America, and consistent with chapter 10 of title 5, United States Code (commonly known as the Federal Advisory Committee Act), it is hereby ordered as follows:

Section 1. Each advisory committee listed below is continued until September 30, 2025.

(a) Committee for the Preservation of the White House; Executive Order 11145, as amended (Department of the Interior).

(b) President's Commission on White House Fellowships; Executive Order 11183, as amended (Office of Personnel Management).

(c) President's Committee on the National Medal of Science; Executive Order 11287, as amended (National Science Foundation).

(d) Federal Advisory Council on Occupational Safety and Health; Executive Order 11612, as amended (Department of Labor).

(e) President's Export Council; Executive Order 12131, as amended (Department of Commerce).

(f) President's Committee on the International Labor Organization; Executive Order 12216, as amended (Department of Labor).

(g) President's National Security Telecommunications Advisory Committee; Executive Order 12382, as amended (Department of Homeland Security).

(h) National Industrial Security Program Policy Advisory Committee; Executive Order 12829, as amended (National Archives and Records Administration).

(i) Trade and Environment Policy Advisory Committee; Executive Order 12905 (Office of the United States Trade Representative).

(j) Governmental Advisory Committee to the United States Representative to the North American Commission for Environmental Cooperation; Executive Order 12915 (Environmental Protection Agency).

(k) National Advisory Committee to the United States Representative to the North American Commission for Environmental Cooperation; Executive Order 12915 (Environmental Protection Agency).

(l) Good Neighbor Environmental Board; Executive Order 12916, as amended (Environmental Protection Agency).

(m) Presidential Advisory Council on HIV/AIDS; Executive Order 12963, as amended (Department of Health and Human Services).

(n) President's Committee for People with Intellectual Disabilities; Executive Order 12994, as amended (Department of Health and Human Services).

(o) Invasive Species Advisory Committee; Executive Order 13112, as amended (Department of the Interior).

(p) Advisory Board on Radiation and Worker Health; Executive Order 13179 (Department of Health and Human Services).

(q) National Infrastructure Advisory Council; Executive Order 13231, as amended (Department of Homeland Security).

(r) President's Council on Sports, Fitness, and Nutrition; Executive Order 13265, as amended (Department of Health and Human Services).

(s) Interagency Task Force on Veterans Small Business Development; Executive Order 13540 (Small Business Administration).

(t) State, Local, Tribal, and Private Sector (SLTPS) Policy Advisory Committee; Executive Order 13549 (National Archives and Records Administration).

(u) President's Advisory Council on Doing Business in Africa; Executive Order 13675, as amended (Department of Commerce).

(v) President's Council of Advisors on Science and Technology; Executive Order 14007, as amended (Department of Energy).

(w) White House Environmental Justice Advisory Council; Executive Order 14008 (Environmental Protection Agency).

(x) President's Advisory Commission on Asian Americans, Native Hawaiians, and Pacific Islanders; Executive Order 14031 (Department of Health and Human Services).

(y) President's Board of Advisors on Historically Black Colleges and Universities; Executive Order 14041 (Department of Education).

(z) Presidential Advisory Commission on Advancing Educational Equity, Excellence, and Economic Opportunity for Hispanics; Executive Order 14045 (Department of Education).

(aa) Presidential Advisory Commission on Advancing Educational Equity, Excellence, and Economic Opportunity for Black Americans; Executive Order 14050 (Department of Education).

(bb) President's Committee on the Arts and the Humanities; Executive Order 14084 (Institute of Museum and Library Services).

(cc) President's Advisory Council on African Diaspora Engagement in the United States; Executive Order 14089 (Department of State).

(dd) Commerce Spectrum Management Advisory Committee; initially established pursuant to Presidential Memorandum on Improving Spectrum Management for the 21st Century (November 29, 2004) (Department of Commerce).

(ee) Grand Staircase-Escalante National Monument Advisory Committee; Proclamation 6920 of September 18, 1996, as amended (Department of the Interior).

(ff) San Juan Islands National Monument Advisory Committee; Proclamation 8947 of March 25, 2013 (Department of the Interior).

(gg) Bears Ears National Monument Advisory Committee; Proclamation 9558 of December 28, 2016, as amended (Department of the Interior).

(hh) Gold Butte National Monument Advisory Committee; Proclamation 9559 of December 28, 2016 (Department of the Interior).

(ii) Avi Kwa Ame National Monument Advisory Committee; Proclamation 10533 of March 21, 2023 (Department of the Interior).

(jj) Baaj Nwaavjo I'tah Kukveni-Ancestral Footprints of the Grand Canyon National Monument Advisory Committee; Proclamation 10606 of August 8, 2023 (Department of the Interior).

(kk) National Space-Based Positioning, Navigation, and Timing Advisory Board; Space Policy Directive 7, “The United States Space-Based Positioning, Navigation, and Timing Policy” (January 15, 2021) (National Aeronautics and Space Administration).

Sec. 2. Notwithstanding the provisions of any other Executive Order, the functions of the President under chapter 10 of title 5, United States Code, that are applicable to the committees listed in section 1 of this order shall be performed by the head of the department or agency designated after each committee, in accordance with the regulations, guidelines, and procedures established by the Administrator of General Services.

Sec. 3. Sections 1 and 2 of Executive Order 14048 of September 30, 2021, are hereby superseded by sections 1 and 2 of this order.

Sec. 4. Executive Order 14031 of May 28, 2021, is amended as follows:

(a) in section 2(b), by striking “and” at the conclusion of subsection (vi), by striking the period at the conclusion of subsection (vii) and replacing it with “; and”, and by inserting the following new subsection after subsection (vii):

“(viii) ways to expand national awareness of and share information about efforts to advance equity, justice, and opportunity for AA and NHPI communities.”;

(b) in section 2, by redesignating subsections (d) and (e) as subsections (e) and (f), respectively, and inserting the following new subsection after subsection (c):

“(d) The members of the Commission shall function as liaisons and spokespersons on behalf of the Commission to relevant State, local, and private entities, and shall share information about the work of the Commission in order to advise the President regarding the development, monitoring, and coordination of executive branch efforts to advance equity, justice, and opportunity for AA and NHPI communities in the United States, including efforts to close gaps in health, socioeconomic, employment, and educational outcomes.”; and

(c) in section 3, by striking subsection (f) and inserting, in lieu thereof, the following:

“(f) The Initiative shall coordinate with and support the existing regional network of Federal officials who facilitate improved communication, engagement, and coordination between the Federal Government and AA and NHPI communities throughout the United States (Regional Network). Agencies identified as participants in the Initiative shall designate regional agency employees to serve as representatives to the Regional Network and shall seek opportunities, consistent with applicable law and available resources, to provide support and resources to the Regional Network. The Executive Director shall coordinate the efforts of the Regional Network and may establish regular reporting and information-sharing activities between the Regional Network and the Initiative.”.

Sec. 5. Executive Order 14084 of September 30, 2022, is amended as follows:

(a) in section 2(b)(i), by striking “25” and inserting in lieu thereof “30”; and

(b) in section 2, by redesignating subsections (f), (g), (h), and (i) as subsections (g), (h), (i), and (j), respectively, and by inserting after subsection (e) the following new subsection:

“(f) The Executive Director and the members of the Committee may function as liaisons and spokespersons on behalf of the Committee to relevant State, local, and private entities to share information about the work of the Committee in order to advise the President on the implementation of national engagement with Americans necessary to advance the arts, the humanities, and museum and library services.”.

Sec. 6. This order shall be effective September 30, 2023.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 29, 2023.

[FR Doc. 2023-22250

Filed 10-3-23; 8:45 am]

Billing code 3395-F4-P